NUCLEAR REGULATORY COMMISSION

[NRC-2010-0103]

Withdrawal of Regulatory Guide 8.6

AGENCY: Nuclear Regulatory Commission.

ACTION: Withdrawal of Regulatory Guide 8.6, “Standard Test Procedure for Geiger-Müller Counters.”

FOR FURTHER INFORMATION CONTACT: Harriet Karagiannis, U.S. Nuclear Regulatory Commission, Washington, DC 20555-0001, telephone: 301-251-7477 or e-mail Harriet.Karagiannis@nrc.gov.

SUPPLEMENTARY INFORMATION:

I. Introduction

The U.S. Nuclear Regulatory Commission (NRC) is withdrawing Regulatory Guide (RG) 8.6, “Standard Test Procedure for Geiger-Müller Counters,” published in May 1973. The NRC issued RG 8.6, for Geiger-Müller (GM) counters endorsing test procedures specified in ANSI N42.3-1969, “Test Procedure for Geiger-Müller Counters.” ANSI N42.3-1969 has not been revised; it is outdated and no longer useful.

RG 8.6 provided guidance for licensees to comply with Title 10 of the Code of Federal Regulations (10 CFR) Part 20, “Standards for Protection against Radiation,” specifically 10 CFR 20.201, “Precautionary Procedures: Surveys” which required surveys, including appropriate measurements of levels of radiation. That provision, 10 CFR 20.201, was deleted, and that subject matter is addressed in a new section, 10 CFR 20.1501, “General,” which states that licensees shall perform surveys to ensure that instruments and equipment used for quantitative radiation measurements (e.g., dose rate and effluent monitoring) are calibrated periodically for the radiation measured.

In the 1970s, the GM counters were the main radiation detection instruments used by licensees. At that time, radiation protection programs needed the guidance included in RG 8.6 because there was limited information available on the use and maintenance of these counters. However, since the 1970s, technology has changed radically, and currently, in addition to GM counters, there are many types of radiation detection and measurement instruments used. Most of them are fairly complex to operate, maintain, and calibrate.

Generally, the NRC does not provide specific guidance for the technical testing or calibration of radiation detection and measurement equipment. Any such guidance would soon become outdated, since the development of these instruments is continuously advancing, producing new models tailored to a range of specialized clientele. The manufacturers provide instructions and training for testing and calibration of each new instrument. Also, since the 1970s, the industry has gained extensive experience in the characteristics of the GM counters and other instruments. In addition, organizations such as the National Institute of Standards and Technology and other private groups offer calibration services to those who lack in-house training and experience in testing and calibrating instruments.

II. Further Information

The withdrawal of RG 8.6 does not alter any prior or existing licensing commitments or conditions based on its use. The guidance provided in RG 8.6 is neither necessary nor current. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. The PDR staff can be reached by telephone at 301-415-4737 or 800-397-4209, by fax at 301-415-3548, and by e-mail to pdr.resource@nrc.gov.

Regulatory guides are not copyrighted, and NRC approval is not required to reproduce them.

Dated at Rockville, Maryland, this 9th day of March, 2010.
For the Nuclear Regulatory Commission.
Andrea D. Valentin,
Chief, Regulatory Guide Development Branch, Division of Engineering, Office of Nuclear Regulatory Research.

[FR Doc. 2010-5794 Filed 3-16-10; 8:45 am]

BILLING CODE 7590-01-P